DEPARTMENT OF AGRICULTURE

Submission for OMB Review; Comment Request

July 17, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Financial Information Security Request Form.

OMB Control Number: 0596-0204.

Summary of Collection: The majority of Forest Service's (FS) financial records are in databases stored at the National Finance Center (NFC). The Federal Information Security Reform Act of 2002 (Pub. L. 107-347) and Information Technology Management Reform Act of 1996 (Pub. L. 104-106) authorize the Forest Service to obtain information necessary for employees and contractors to access and maintain these records.

Need and Use of the Information: The Forest Service uses a paper and electronic version of its form FS-6500-214 to gather name, work e-mail, work telephone number, job title etc. for a specific employee or contractor to apply to NFC for access. NFC grants access to users only at the request of Client Security Officers. The unit's Client Security Officer is responsible for management of access to computers and coordinates all requests for NFC. The information collected is shared with those managing or overseeing the financial systems used by the FS, this includes auditors.

Description of Respondents: Contracted Employees.

Number of Respondents: 50.

Frequency of Reponses: Reporting: Yearly.

Total Burden Hours: 150.

Charlene Parker,
Departmental Information Collection Clearance Officer.

[FR Doc. E7-14127 Filed 7-20-07; 8:45 am]

BILLING CODE 3410-11-P